DEPARTMENT OF TRANSPORTATION

Federal Aviation Administration

14 CFR Part 39

[Docket No. 2003-NM-16-AD; Amendment 39-13970; AD 2005-03-14]

RIN 2120-AA64

Airworthiness Directives; Airbus Model A300 B2 and B4 Series Airplanes

AGENCY: Federal Aviation Administration (FAA), Department of Transportation (DOT).

ACTION: Final rule.

SUMMARY: This amendment supersedes an existing airworthiness directive (AD) that applies to all Airbus Model A300 B2 and B4 series airplanes. The existing AD currently requires determining the part and amendment number of the variable lever arm (VLA) of the rudder control system to verify the parts were installed using the correct standard, and corrective actions if necessary. For certain VLAs, this new AD requires repetitive inspections of the VLA and corrective action if necessary. This new AD also provides a terminating action for the repetitive inspections. Furthermore, this new AD reduces the applicability of affected airplanes. The actions specified by this AD are intended to prevent failure of both spring boxes of certain VLAs due to corrosion damage, which could result in loss of rudder control and consequent reduced controllability of the airplane. This action is intended to address the identified unsafe condition.

DATES: Effective March 21, 2005.

The incorporation by reference of certain publications listed in the regulations is approved by the Director of the Federal Register as of March 21, 2005.

The incorporation by reference of a certain other publication as listed in the regulations was approved previously by the Director of the Federal Register as of November 13, 2001 (66 FR 54416, October 29, 2001).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at the NARA, call (202) 741-6030, or go to http://www.archives.gov/federal_register/code_of_federal_regulations/ibr_locations.html.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The FAA proposed to amend part 39 of the Federal Aviation Regulations (14 CFR part 39) with an AD to supersede AD 2001-22-02, amendment 39-12481 (66 FR 54416, October 29, 2001). The existing AD applies to all Airbus Model A300 B2 and B4 series airplanes. The proposed AD was published as a supplemental notice of proposed rulemaking (NPRM) in the Federal Register on October 5, 2004 (69 FR 59557). The supplemental NPRM proposed to continue to require determining the part and amendment number of the variable lever arm (VLA) of the rudder control system to verify the parts were installed using the correct standard, and corrective actions if necessary. The supplemental NPRM also proposed to require repetitive inspections for damage, and replacement with a new VLA if necessary. The supplemental NPRM also proposed to reduce the applicability of affected airplanes and to mandate a terminating modification of the VLA, which would end the repetitive inspections.

Comments

Interested persons have been afforded an opportunity to participate in the making of this amendment. Due consideration has been given to the comment received.

Request To Clarify Affected Part Numbers

The commenter requests that paragraph (b) of the proposed AD be revised to specify that the referenced part numbers are for VLA spring boxes. The commenter states that the supplemental NPRM gives the impression of addressing a VLA assembly with P/Ns other than 418473-20 or 418473-200. The commenter notes that the referenced P/Ns are actually for the VLA spring boxes, not the VLA assembly. The P/Ns of the VLA assemblies are “40720 with amendments other than 6,” as described in Airbus Service Bulletin A300-27-0196, Revision 01, dated November 13, 2002 (which was referenced in the supplemental NPRM as the appropriate source of service information for accomplishment of the inspections and corrective actions). The commenter contends that unless the P/Ns are clearly identified, operators may be confused regarding the applicability of paragraph (b) of the supplemental NPRM.

We agree with the commenter's request to clarify the affected part numbers. Paragraph (b) of this AD has been revised accordingly.

Conclusion

After careful review of the available data, including the comment noted above, we have determined that air safety and the public interest require the adoption of the rule with the change described previously. We have determined that this change will neither increase the economic burden on any operator nor increase the scope of the AD.

Cost Impact

About 33 airplanes of U.S. registry will be affected by this AD.

The actions that are currently required by AD 2001-22-02, and retained in this AD, take about 1 work hour per airplane to accomplish, at an average labor rate of $65 per work hour. Based on these figures, the cost impact of the currently required actions on U.S. operators is estimated to be $65 per airplane.

The new inspection required by this AD will take about 1 work hour per airplane to accomplish, at an average labor rate of $65 per work hour. Based on these figures, the cost impact of the new inspections on U.S. operators is estimated to be $2,145, or $65 per airplane, per inspection cycle.

The new modification required by this AD will take about 4 hours per airplane to accomplish, at an average labor rate of $65 per work hour. Required parts cost will be minimal. Based on these figures, the cost impact of the new modification on U.S. operators is $8,580, or $260 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12481 (66 FR 54416, October 29, 2001), and by adding a new airworthiness directive (AD), amendment 39-13970, to read as follows:

2005-03-14 Airbus: Docket 2003-NM-16-AD. Amendment 39-13970. Supersedes AD 2002-08-13, Amendment 39-12481.

Applicability: Model A300 B2 and B4 series airplanes, certificated in any category; except those airplanes modified by Airbus Modification 12656.

Compliance: Required as indicated, unless accomplished previously.

To prevent failure of both spring boxes of certain VLAs due to corrosion damage, which could result in loss of rudder control and consequent reduced controllability of the airplane, accomplish the following:

Restatement of the Requirements of AD 2001-22-02

(a) Within 10 days after November 13, 2001 (the effective date of AD 2001-22-02, amendment 39-12481): Determine the part and amendment numbers of the VLA of the rudder control system to verify the parts were installed using the correct standard, in accordance with Airbus All Operators Telex (AOT) A300-27A0196, dated September 20, 2001; or in accordance with the Accomplishment Instructions of Airbus Service Bulletin A300-27-0196, Revision 01, dated November 13, 2002.

(1) If the part and amendment numbers shown are not correct, as specified in the AOT or the service bulletin, before further flight, do a detailed inspection of the VLA tie rod for damage (bent or ruptured rod) in accordance with the AOT or the service bulletin.

(i) If the tie rod is damaged, replace the VLA with a new VLA in accordance with the AOT or the service bulletin. Such replacement ends the requirements of this paragraph.

(ii) If the tie rod is not damaged, no further action is required by this paragraph.

(2) If the part and amendment numbers shown are correct, no further action is required by this paragraph.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

New Requirements of This AD

(b) For airplanes having VLA spring boxes with any part number (P/N) other than 418473-20 or 418473-200: Within 500 flight hours after the effective date of this AD, do a detailed inspection of the tie rod for damage (bent or ruptured rod), by accomplishing all of the applicable actions specified in the Accomplishment Instructions of Airbus Service Bulletin A300-27-0196, Revision 01, dated November 13, 2002. Repeat the inspection thereafter at intervals not to exceed 1,000 flight hours, until paragraph (f) of this AD has been accomplished.

Replacement or Repair

(c) If any damage is found to the VLA or the rudder control system during any inspection required by paragraph (a)(1) or (b) of this AD, before further flight, replace the VLA with a new VLA (including a follow-up test) by accomplishing all of the applicable actions specified in the Accomplishment Instructions of Airbus Service Bulletin A300-27-0196, Revision 01, dated November 13, 2002.

No Reporting/Parts Return Requirements

(d) Although Airbus Service Bulletin A300-27-0196, Revision 01, dated November 13, 2002, describes procedures for submitting certain information to the manufacturer, and for returning certain parts to the manufacturer, this AD does not require those actions.

Terminating Modification

(e) Within 24 months after the effective date of this AD: Modify the applicable VLA, as required by either paragraph (e)(1) or (e)(2) of this AD, by accomplishing all of the applicable actions specified in the Accomplishment Instructions of Airbus Service Bulletin A300-27-0198, dated December 1, 2003. Accomplishing this modification ends the repetitive inspections required by paragraph (b) of this AD.

(1) For any VLA having a spring box with P/N 418473-20 or 418473-200: Install a new identification plate and re-identify the VLA.

(2) For any VLA having a spring box with P/N 418473 or 418473-100: Modify the spring box and re-identify the VLA.

Note 2: Airbus Service Bulletin A300-27-0198, dated December 1, 2003, references Goodrich Actuation Systems Service Bulletin 27-21-1H, Revision 3, dated December 8, 2003, as an additional source of service information for accomplishing the modification.

Alternative Methods of Compliance

(f) In accordance with 14 CFR 39.19, the Manager, International Branch, ANM-116, Transport Airplane Directorate, FAA, is authorized to approve alternative methods of compliance for this AD.

Incorporation by Reference

(g) Unless otherwise specified in this AD, the actions must be done in accordance with the service information in Table 1 of this AD. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at the NARA, call (202) 741-6030, or go to http://www.archives.gov/federal_register/code_of_federal_regulations/ibr_locations.html.

Table 1.—Material Incorporated by Reference
Airbus service information | Revision level | Date
All Operators Telex A300-27A0196 | Original | Sept. 20, 2001.
Service Bulletin A300-27-0196, excluding Appendix 01 | 01 | Nov. 13, 2002.
Service Bulletin A300-27-0198 | Original | Dec. 1, 2003.

(1) The incorporation by reference of Airbus Service Bulletin A300-27-0196, excluding Appendix 01, Revision 01, dated November 13, 2002; and Airbus Service Bulletin A300-27-0198, dated December 1, 2003; is approved by the Director of the Federal Register in accordance with 5 U.S.C. 552(a) and 1 CFR part 51.

(2) The incorporation by reference of Airbus All Operators Telex A300-27A0196, dated September 20, 2001, was approved previously by the Director of the Federal Register as of November 13, 2001 (66 FR 54416, October 29, 2001).

Note 3: The subject of this AD is addressed in French airworthiness directive F-2004-091(B), dated June 23, 2004.

Effective Date

(h) This amendment becomes effective on March 21, 2005.

Issued in Renton, Washington, on January 31, 2005.
Kalene C. Yanamura,
Acting Manager, Transport Airplane Directorate, Aircraft Certification Service.

[FR Doc. 05-2581 Filed 2-11-05; 8:45 am]

BILLING CODE 4910-13-P